DEPARTMENT OF TRANSPORTATION

Federal Aviation Administration

14 CFR Part 71

[Docket No. FAA-2020-0189; Airspace Docket No. 19-AGL-2]

RIN 2120-AA66

Amendment of V-55, V-271, T-217, and T-265, and Revocation of V-215 and V-450 in the Vicinity of Muskegon, MI

AGENCY: Federal Aviation Administration (FAA), DOT.

ACTION: Final rule.

SUMMARY: This action amends VHF Omnidirectional Range (VOR) Federal airways V-55 and V-271; amends Area Navigation (RNAV) routes T-217 and T-265; and removes VOR Federal airways V-215 and V-450 in the vicinity of Muskegon, MI. The air traffic service (ATS) route amendments are necessary due to the planned decommissioning of the VOR portion of the Muskegon, MI, VOR/Tactical Air Navigation (VORTAC) navigation aid (NAVAID) which provides navigation guidance for portions of the affected ATS routes. This VOR is being decommissioned as part of the FAA's VOR Minimum Operational Network (MON) program.

DATES: Effective date 0901 UTC, November 5, 2020. The Director of the Federal Register approves this incorporation by reference action under Title 1 Code of Federal Regulations part 51, subject to the annual revision of FAA Order 7400.11 and publication of conforming amendments.

ADDRESSES: FAA Order 7400.11D, Airspace Designations and Reporting Points, and subsequent amendments can be viewed online at https://www.faa.gov/air_traffic/publications/. For further information, you can contact the Rules and Regulations Group, Federal Aviation Administration, 800 Independence Avenue SW, Washington, DC 20591; telephone: (202) 267-8783. The Order is also available for inspection at the National Archives and Records Administration (NARA). For information on the availability of FAA Order 7400.11D at NARA, email: fedreg.legal@nara.gov or go to https://www.archives.gov/federal-register/cfr/ibr-locations.html.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic within the National Airspace System.

History

The FAA published a notice of proposed rulemaking (NPRM) for Docket No. FAA-2020-0189 in the Federal Register (85 FR 16287; March 23, 2020), amending VOR Federal airways V-55 and V-271; amending RNAV routes T-217 and T-265; and removing VOR Federal airways V-215 and V-450 in the vicinity of Muskegon, MI. Interested parties were invited to participate in this rulemaking effort by submitting written comments on the proposal. No comments were received.

Subsequent to the NPRM, the FAA published a rule for Docket No. FAA-2019-1105 in the Federal Register (85 FR 38785; June 29, 2020), amending VOR Federal airway V-55 by removing the airway segment overlying the Siren, WI, VOR/Distance Measuring Equipment (VOR/DME) between the Eau Claire, WI, VORTAC and the Siren, WI, VOR/DME. That airway amendment, effective September 10, 2020, is included in this rule.

VOR Federal airways are published in paragraph 6010(a) and RNAV T-routes are published in paragraph 6011 of FAA Order 7400.11D dated August 8, 2019, and effective September 15, 2019, which is incorporated by reference in 14 CFR 71.1. The ATS routes listed in this document will be subsequently published in the Order.

Differences From the Proposal

The RNAV route T-215 identifier listed in the Title and in the “Summary” section of the NPRM was an editorial error. The correct route identification for the proposed RNAV route amendment addressed in the NPRM is T-217 and was correct as presented in the “Background,” “The Proposal,” and the regulatory text sections. As such, the RNAV route identifier listed in the Title and “Summary” section should reflect “T-217” instead of “T-215”. This editorial correction is included in this action.

Availability and Summary of Documents for Incorporation by Reference

This document amends FAA Order 7400.11D, Airspace Designations and Reporting Points, dated August 8, 2019, and effective September 15, 2019. FAA Order 7400.11D is publicly available as listed in the ADDRESSES section of this document. FAA Order 7400.11D lists Class A, B, C, D, and E airspace areas, air traffic service routes, and reporting points.

The Rule

The FAA is amending Title 14 Code of Federal Regulations (14 CFR) part 71 to modify VOR Federal airways V-55 and V-271, modify RNAV routes T-217 and T-265, and remove VOR Federal airways V-215 and V-450. The planned decommissioning of the VOR portion of the Muskegon, MI, VORTAC has made this action necessary. The VOR Federal airway changes are outlined below.

V-55: V-55 extends between the Dayton, OH, VOR/DME and the intersection of the Green Bay, WI, VORTAC 270° and Oshkosh, WI, VORTAC 339° radials (BIPID fix); and between the Park Rapids, MN, VOR/DME and the Bismarck, ND, VOR/DME. The airway segment between the Pullman, MI, VOR/DME and the intersection of the Green Bay, WI, VORTAC 270° and Oshkosh, WI, VORTAC 339° radials (BIPID fix) is removed. The unaffected portions of the existing airway remain as charted.

V-215: V-215 extends between the intersection of the Muskegon, MI, VORTAC 208° and Pullman, MI, VOR/DME 261° radials (JYBEE fix) and the Gaylord, MI, VOR/DME. The airway is removed in its entirety.

V-271: V-271 extends between the Muskegon, MI, VORTAC and the Escanaba, MI, VOR/DME. The airway segment between the Muskegon, MI, VORTAC and the Manistee, MI, VOR/DME is removed. The unaffected portions of the existing airway remain as charted.

V-450: V-450 extends between the Escanaba, MI, VOR/DME and the Flint, MI, VORTAC. The airway is removed in its entirety.

The RNAV route changes are outlined below.

T-217: T-217 extends between the Lexington, KY, VOR/DME and the BONEE, OH, fix. The route is extended northwestward from the BONEE, OH, fix to the GAYLE, MI, waypoint. The extension of T-217 replaces the loss of a portion of V-450 west of the Muskegon VORTAC. Additionally, the type of NAVAID facility listed for the Lexington, KY, route point is corrected from “VORTAC” to “VOR/DME” and the geographic coordinates of each route point are expressed in degrees, minutes, seconds, and hundredths of a second.

T-265: T-265 extends between the AHMED, IL, fix and the VEENA, WI, fix. The existing route is extended eastward and northward so the route begins at the JAYBE, WI, fix and ends at the PINES, MI, waypoint. The extension of T-265 establishes enroute structure to overcome the loss of the V-55 airway segment south of the Muskegon VORTAC and the loss of the V-215 airway segments north of the Muskegon VORTAC. Additionally, the geographic coordinates of each route point are expressed in degrees, minutes, seconds, and hundredths of a second.

The radials listed in the VOR Federal airway V-55 description below are unchanged and stated in True degrees.

FAA Order 7400.11, Airspace Designations and Reporting Points, is published yearly and effective on September 15.

Regulatory Notices and Analyses

The FAA has determined that this regulation only involves an established body of technical regulations for which frequent and routine amendments are necessary to keep them operationally current. It, therefore: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of modifying VOR Federal airways V-55 and V-271, modifying RNAV routes T-217 and T-265, and removing VOR Federal airways V-215 and V-450 due to the planned decommissioning of the VOR portion of the Muskegon, MI, VORTAC NAVAID qualifies for categorical exclusion under the National Environmental Policy Act and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points). As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11D, Airspace Designations and Reporting Points, dated August 8, 2019 and effective September 15, 2019, is amended as follows:

Paragraph 6010(a) Domestic VOR Federal Airways.

* * * * *

V-55 [Amended]

From Dayton, OH; Fort Wayne, IN; Goshen, IN; Gipper, MI; Keeler, MI; to Pullman, MI. From Park Rapids, MN; Grand Forks, ND; INT Grand Forks 239° and Bismarck, ND, 067° radials; to Bismarck.

* * * * *

V-215 [Removed]

* * * * *

V-271 [Amended]

From Manistee, MI; to Escanaba, MI.

* * * * *

V-450 [Removed]

* * * * *

6011. United States Area Navigation Routes.

* * * * *

T-217 Lexington, KY (HYK) to Gayle, MI [Amended]
Lexington, KY (HYK) | VOR/DME | (Lat. 37°57′58.86″ N, long. 084°28′21.06″ W)
BOSTR, OH | FIX | (Lat. 38°53′08.13″ N, long. 084°04′58.02″ W)
HEDEN, OH | FIX | (Lat. 39°16′44.88″ N, long. 084°02′02.37″ W)
PRUDE, OH | FIX | (Lat. 39°25′44.92″ N, long. 083°56′58.60″ W)
Springfield, OH (SGH) | DME | (Lat. 39°50′11.55″ N, long. 083°50′41.84″ W)
BONEE, OH | FIX | (Lat. 40°03′08.85″ N, long. 083°56′56.15″ W)
SJAAY, IN | WP | (Lat. 40°58′44.05″ N, long. 085°11′17.17″ W)
DERRF, IN | WP | (Lat. 41°39′56.73″ N, long. 085°23′58.59″ W)
GETCH, MI | WP | (Lat. 43°10′07.15″ N, long. 086°03′03.06″ W)
GAYLE, MI | WP | (Lat. 43°29′37.62″ N, long. 087°00′13.08″ W)
* * * * * * *
T-265 Jaybe, WI to Pines, MI [Amended]
JAYBE, WI | FIX | (Lat. 42°38′39.36″ N, long. 088°38′19.60″ W)
GRIFT, IL | WP | (Lat. 42°17′28.14″ N, long. 088°53′41.42″ W)
START, IL | WP | (Lat. 41°45′24.83″ N, long. 089°00′21.81″ W)
MEITZ, IL | FIX | (Lat. 41°23′30.87″ N, long. 088°38′53.19″ W)
COYAP, IL | WP | (Lat. 41°13′26.93″ N, long. 087°41′20.30″ W)
MAPPS, IN | WP | (Lat. 41°10′53.94″ N, long. 086°56′32.63″ W)
KLROY, IN | WP | (Lat. 41°19′19.37″ N, long. 086°38′57.44″ W)
SMUUV, MI | WP | (Lat. 42°27′58.77″ N, long. 086°07′38.37″ W)
GETCH, MI | WP | (Lat. 43°10′07.15″ N, long. 086°03′03.06″ W)
LADIN, MI | WP | (Lat. 44°22′25.44″ N, long. 085°09′38.61″ W)
CARGA, MI | WP | (Lat. 44°38′28.29″ N, long. 084°58′15.15″ W)
BUDHA, MI | WP | (Lat. 44°58′24.33″ N, long. 084°45′23.22″ W)
RONDO, MI | WP | (Lat. 45°16′43.24″ N, long. 084°31′06.32″ W)
PINES, MI | WP | (Lat. 46°01′49.61″ N, long. 084°29′12.25″ W)

* * * * *

Issued in Washington, DC, on August 12, 2020.
Scott M. Rosenbloom,
Acting Manager, Rules and Regulations Group.

[FR Doc. 2020-17981 Filed 8-17-20; 8:45 am]

BILLING CODE 4910-13-P